DEPARTMENT OF ENERGY

Federal Energy Regulatory Commission

Combined Notice of Filings

Take notice that the Commission has received the following Natural Gas Pipeline Rate and Refund Report filings:

Docket Numbers: RP21-336-001.

Applicants: Transcontinental Gas Pipe Line Company, LLC.

Description: Tariff Amendment: Rate Schedule S-2 Tracker Filing (ASA/PCB) eff 12/1/2020 Amended to be effective 12/1/2020.

Filed Date: 1/4/21.

Accession Number: 20210104-5050.

Comments Due: 5 p.m. ET 1/19/21.

Docket Numbers: RP21-365-000.

Applicants: Equitrans, L.P.

Description: § 4(d) Rate Filing: Negotiated Rate Capacity Release Agreements—1/1/2021 to be effective 1/1/2021.

Filed Date: 1/4/21.

Accession Number: 20210104-5004.

Comments Due: 5 p.m. ET 1/19/21.

Docket Numbers: RP21-366-000.

Applicants: Equitrans, L.P.

Description: § 4(d) Rate Filing: Nonconforming Negotiated Rate Agreement Amendment to be effective 1/4/2021.

Filed Date: 1/4/21.

Accession Number: 20210104-5005.

Comments Due: 5 p.m. ET 1/19/21.

Docket Numbers: RP21-367-000.

Applicants: Rover Pipeline LLC.

Description: § 4(d) Rate Filing: Summary of Negotiated Rate Capacity Release Agreements on 1-4-21 to be effective 1/1/2021.

Filed Date: 1/4/21.

Accession Number: 20210104-5006.

Comments Due: 5 p.m. ET 1/19/21.

Docket Numbers: RP21-368-000.

Applicants: Gulf South Pipeline Company, LLC.

Description: § 4(d) Rate Filing: Cap Rel Neg Rate Agmts (Atlanta Gas 8438 releases eff 1-1-2021) to be effective 1/1/2021.

Filed Date: 1/4/21.

Accession Number: 20210104-5007.

Comments Due: 5 p.m. ET 1/19/21.

Docket Numbers: RP21-369-000.

Applicants: Gulf South Pipeline Company, LLC.

Description: § 4(d) Rate Filing: Cap Rel Neg Rate Agmt (Constellation 53453 to Exelon 53491) to be effective 1/1/2021.

Filed Date: 1/4/21.

Accession Number: 20210104-5008.

Comments Due: 5 p.m. ET 1/19/21.

Docket Numbers: RP21-370-000.

Applicants: Gulf South Pipeline Company, LLC.

Description: § 4(d) Rate Filing: Cap Rel Neg Rate Agmts (Marathon 51753, 51754 to BP 53499, 53500, Spire 53501) to be effective 1/1/2021.

Filed Date: 1/4/21.

Accession Number: 20210104-5009.

Comments Due: 5 p.m. ET 1/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2021.
Nathaniel J. Davis, Sr.,
Deputy Secretary.

[FR Doc. 2021-00261 Filed 1-8-21; 8:45 am]

BILLING CODE 6717-01-P